ENVIRONMENTAL PROTECTION AGENCY

40 CFR Part 52

[MD059-3049a; FRL-6564-8]

Approval and Promulgation of Air Quality Implementation Plans; Maryland; Withdrawal of Direct Final Rule

AGENCY: Environmental Protection Agency (EPA).

ACTION: Withdrawal of direct final rule.

SUMMARY: Because we received adverse comments, EPA is withdrawing the direct final rule to approve Maryland's Post-1996 Rate-of-Progress plan for the Cecil County portion of the Philadelphia-Wilmington-Trenton severe ozone nonattainment area. In the direct final rule published on February 3, 2000 (65 FR 5252), we stated that if we received adverse comment by March 6, 2000, we would publish a timely withdrawal in the Federal Register. EPA subsequently received adverse comments. We will address those comments in a final rule based upon the proposed rule also published on February 3, 2000 (65 FR 5296). As stated in the parallel proposal, EPA will not institute a second comment period on this action.

DATES: The addition of 40 CFR 52.1075(h) and 52.1076(e) is withdrawn as of March 28, 2000.

FOR FURTHER INFORMATION CONTACT: Kristeen Gaffney (215) 814-2092.

SUPPLEMENTARY INFORMATION:

List of Subjects in 40 CFR Part 52

Environmental protection, Air pollution control, Hydrocarbons, Ozone.

Dated: March 19, 2000.
Bradley M. Campbell,
Regional Administrator, Region III.

Accordingly, the addition of 40 CFR 52.1075(h) and 52.1076(e) is withdrawn as of March 28, 2000.

[FR Doc. 00-7625 Filed 3-27-00; 8:45 am]

BILLING CODE 6560-50-P